INTER-AMERICAN FOUNDATION

Sunshine Act Meetings

TIME AND DATE: September 24, 2012, 9:00 a.m.-1:30 p.m.

PLACE: 1331 Pennsylvania Ave. NW., 12th Floor North, Suite 1200, Washington, DC 20004.

STATUS: Open session except for the portion specified as closed session as provided in 22 CFR 1004.4 (f)

MATTERS TO BE CONSIDERED: Approval of the Minutes of the June 25, 2012, Meeting of the Board of Directors.

Resolution Honoring Service of Kay Arnold.

Management Report.

FY13 Budget and Funding Perspective.

Public Information about IAF Grants.

Executive Session.

PORTIONS TO BE OPEN TO THE PUBLIC: Approval of the Minutes of the June 25, 2012, Meeting of the Board of Directors.

Resolution Honoring Service of Kay Arnold.

Management Report.

FY13 Budget and Funding Perspective.

Public Information about IAF Grants.

PORTIONS TO BE CLOSED TO THE PUBLIC: Executive Session—Personnel issues. Closed session as provided in 22 CFR 1004.4(f).

CONTACT PERSON FOR MORE INFORMATION: Paul Zimmerman, General Counsel, (202) 683-7118.

Paul Zimmerman,
General Counsel.

[FR Doc. 2012-22840 Filed 9-12-12; 4:15 pm]

BILLING CODE 7025-01-P